DEPARTMENT OF ENERGY

Western Area Power Administration

[DOE/EIS-0438]

Notice of Cancellation of Environmental Impact Statement for the Proposed Hermosa West Wind Energy Project, Albany County, Wyoming

AGENCY: Western Area Power Administration, DOE.

ACTION: Notice of Cancellation of Environmental Impact Statement.

SUMMARY: The U.S. Department of Energy (DOE), Western Area Power Administration (Western) is issuing this notice to advise the public that it is cancelling the preparation of an environmental impact statement (EIS) under the National Environmental Policy Act (NEPA) on an interconnection request by Shell WindEnergy, Inc. (SWE).

DATES: This cancellation is effective on May 23, 2014.

FOR FURTHER INFORMATION CONTACT: For additional information on the cancellation of this EIS process, contact Mark Wieringa, NEPA Document Manager, Western Area Power Administration, P.O. Box 281213, Lakewood, CO 80228-8213, email wieringa@wapa.gov, telephone (720) 962-7448. For general information on DOE's NEPA review process, contact Carol M. Borgstrom, Director of NEPA Policy and Compliance, GC-54, Department of Energy, 1000 Independence Avenue SW., Washington, DC 20585-0119, telephone (202) 586-4600 or (800) 472-2756, facsimile (202) 586-7031.

SUPPLEMENTARY INFORMATION: SWE proposed to design, construct, operate, and maintain an up to 300-megawatt Hermosa West Wind Energy Project (Project) in Albany County, Wyoming, and interconnect that Project with Western's transmission system. SWE's interconnection request caused Western to initiate a NEPA review of its Federal action to allow the interconnection. Western published a Notice of Intent for the EIS in the Federal Register on January 14, 2010 (75 FR 2138), and started the EIS process. Public scoping meetings were held subsequent to the Notice of Intent, and a Draft EIS was approved by Western's acting Administrator for public review and comment on September 24, 2012. The Environmental Protection Agency's Notice of Availability for the Draft EIS was published on October 5, 2012 (77 FR 60986). Public hearings on the Draft EIS were held on October 29 and 30, 2012, in Laramie and Cheyenne, Wyoming, respectively. SWE has since decided to suspend further action on its proposed Project. SWE notified Western of their decision to withdraw their interconnection request and Western is now terminating the NEPA review process on its interconnection decision and SWE's proposed Project. No Final EIS or Record of Decision will be issued for the Hermosa West Wind Energy Project. SWE could decide to reinitiate the proposed Project at some future date. In that event Western would issue a new Notice of Intent, and would initiate an entirely new NEPA process.

On November 16, 2011, the DOE General Counsel re-delegated all EIS authorities to Western's Administrator. Under the authority granted by that memorandum, I have terminated the NEPA process for SWE's proposed Hermosa West Wind Energy Project with the publication of this notice.

Dated: May 5, 2014.
Mark A. Gabriel,
Administrator.

[FR Doc. 2014-12003 Filed 5-22-14; 8:45 am]

BILLING CODE 6450-01-P